DEPARTMENT OF TRANSPORTATION

Federal Highway Administration

Notice of Final Federal Agency Actions on Proposed Transportation Projects in Florida

AGENCY: Federal Highway Administration, FHWA, DOT.

ACTION: Notice of Limitation of Claims for Judicial Review of Actions by FHWA and Other Federal Agencies.

SUMMARY: This notice announces actions taken by FHWA and other Federal Agencies since October 2, 2014, that are final within the meaning of 23 U.S.C. 139(l)(1). The actions relate to the proposed CR 388 Segment 2 (Westbay Parkway) from SR 79 to SR 77 in Bay County; SR 9B Extension in St. Johns County; SR 997/SW 177th Avenue/Krome Avenue South in Miami-Dade County; SR 90/Tamiami Trail, milepost 13.87 to 24.62 in Miami-Dade County; SR 7 Extension in Palm Beach County; Palm Bay Parkway Southern Interchange in Brevard County; and SR 20 in Alachua and Putman Counties in the State of Florida. These actions grant licenses, permits, and approvals for the project.

DATES: By this notice, FHWA is advising the public of final agency actions subject to 23 U.S.C. 139(l)(1). A claim seeking judicial review of the Federal agency actions on the listed highway projects will be barred unless the claim is filed on or before October 5, 2015. If the Federal law that authorizes judicial review of a claim provides a time period of less than 150 days for filing such claim, then that shorter time period still applies.

FOR FURTHER INFORMATION CONTACT: For FHWA: Ms. Cathy Kendall, AICP, Senior Environmental Specialist, FHWA Florida Division, 545 John Knox Road, Suite 200, Tallahassee, Florida 32303; telephone: (850) 553-2225; email: cathy.kendall@dot.gov. The FHWA Florida Division Office's normal business hours are 7:30 a.m. to 4:00 p.m. (Eastern Standard Time), Monday through Friday, except Federal holidays.

SUPPLEMENTARY INFORMATION: Notice is hereby given that FHWA and other Federal Agencies have taken final agency action by issuing licenses, permits, and approvals for the projects listed below. The actions by the Federal agencies on a project, and the laws under which such actions were taken, are described in the documented environmental assessment (EA) or environmental impact statement (EIS) issued in connection with the project, and in other project records for the listed projects. The EA or FEIS and other documents from the FHWA and other Federal Agency project records for the listed projects are available by contacting the FHWA or by using the links provided below.

This notice applies to all Federal agency decisions as of the issuance date of this notice and all laws under which such actions were taken, including but not limited to:

1. General: National Environmental Policy Act (NEPA) [42 U.S.C. 4321-4351; Federal-Aid Highway Act [23 U.S.C. 109 and 23 U.S.C. 128].

2. Air: Clean Air Act (CAA), 42 U.S.C. 7401-7671(q).

3. Land: Section 4(f) of the Department of Transportation Act of 1966 [49 U.S.C. 303 and 23 U.S.C. 138].

4. Wildlife: Endangered Species Act [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 [42 U.S.C. 20009(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13287 Preserve America; E.O. 13175 Consultation and Coordination with Indian Tribal Governments; E.O. 11514 Protection and Enhancement of Environmental Quality; E.O. 13112 Invasive Species.

The projects subject to this notice are:

1. Project Location: Bay County, CR 388 Segment 2 (Westbay Parkway) from SR 79 to SR 77. Financial Project Number 424464-3-22-01. Project type: The project will widen CR 388 (West Bay Parkway, Segment 2) from a two-lane undivided roadway to a four-lane divided roadway, for approximately 12.8 miles. The actions by FHWA and the laws under which such actions were taken are described in the EA and in the Finding of No Significant Impact (FONSI) issued on October 2, 2014, and are available at http://westbayparkway.com.

2. Project Location: St. Johns County, SR 9B Extension. Financial Project Number: 431418-2. Project type: The SR 9B Extension proposes a 2.3-mile extension of State Road (SR) 9B in St. Johns County from the Interstate 95 (I-95)/SR 9B interchange to County Road (CR) 2209, and also provides a connection to existing Race Track Road. Implementing Federal permits that have been issued include SJRWMD Permit #: 102025-6, 102025-7 and ACOE Permit #: SAJ-2014-01931(SP-AWP). The actions by FHWA and the laws under which such actions were taken are described in the EA and in the FONSI issued on November 3, 2014, and are available at http://www.sr9b.com/Phase3/SiteCollectionDocuments/FONSI_EA%20-%20SR%209B%20Extension%20-%20APPROVED.pdf.

3. Project Location: Miami-Dade County, Krome Avenue South (SR 997). Financial Project Number: 249614-4-22-01. Project type: Improve SR 997/SW 177th Avenue/Krome Avenue South (located north of Homestead) to address safety, capacity and design deficiency needs. The project limits are SW 296th Street (Avocado Drive) to SW 136th Street (Howard Drive) in Miami-Dade County, Florida. The actions by FHWA and the laws under which such actions were taken are described in the EIS and Record of Decision (ROD) issued on December 22, 2014, and are available at www.kromesouth.com.

4. Project Location: Miami-Dade County, SR 90/Tamiami Trail (US Highway 41), Tamiami Trail Modifications: Next Steps. Project Type: The project will implement roadway modifications to restore more natural water flow to Everglades National Park and Florida Bay for the purpose of restoring habitat within the Park and ecological connectivity between the Park and Water Conservation Areas. The project limits are between milepost 13.87 and 24.62 (west of Krome Avenue). This project will not add through lanes. The project will remove approximately 5.5 miles of existing 2-lane roadway fill embankment and construct an equal length of 2-lane bridging to replace the removed embankment. Remaining roadway and fill embankment will be slightly raised in elevation. The actions by FHWA and the laws under which such actions were taken are described in the adopted National Park Service EIS, ROD issued by FHWA on February 9, 2015, and are available at http://www.efl.fhwa.dot.gov/projects/tamiami-trail.aspx.

5. Project Location: Palm Beach County, SR 7 Extension. Federal Aid No: 4752(030)P. Project Type: The project will extend SR 7 for 8.5 miles from SR704 (Okeechobee Boulevard) to SR809A (Northlake Boulevard). The actions by FHWA and the laws under which such actions were taken are described in the EA and in the FONSI issued on February 19, 2015, and are available at http://www.sr7extension.com/home.htm.

6. Project Location: Brevard County, Palm Bay Parkway Southern Interchange at I-95. Financial Project No: 426904-1-22-01 and 426904-1-22-02 Project Type: The project builds a new interchange that will directly connect the Palm Bay Parkway and Micco Road to I-95 just south of the City of Palm Bay in Brevard County. The actions by FHWA and the laws under which such actions were taken are described in the EA and in the FONSI issued on February 25, 2015, and are available at www.palmbayinterchange.com.

7. Project Location: Alachua and Putnam Counties, SR 20. Financial Project No: 207818-1 and 210024-1. Project Type: The project will widen SR-20 from a two-lane rural roadway to a four-lane urban divided roadway with a raised median from US-301 to CR-315. The actions by FHWA and the laws under which such actions were taken are described in the EA and in the FONSI issued on March 17, 2015, and are available at http://www.nflroads.com/_layouts/FDOT%20D2%20Northeast%20Florida%20Road%20Construction/ProjectDetails.aspx?pid=12&sid=All.

(Catalog of Federal Domestic Assistance Program Number 20.205, Highway Planning and Construction. The regulations implementing Executive Order 12372 regarding intergovernmental consultation on Federal programs and activities apply to this program.)

Authority: 23 U.S.C. 139(l)(1).

Dated: April 23, 2015.
James C. Christian,
Division Administrator, Federal Highway Administration, Tallahassee, Florida.

[FR Doc. 2015-10431 Filed 5-7-15; 8:45 am]

BILLING CODE 4910-RY-P